DEPARTMENT OF ENERGY

Federal Energy Regulatory Commission

[Docket No. CP06-61-002]

North Baja Pipeline, LLC; Notice of Amendment to Application

February 7, 2007.

Take notice that on February 1, 2007, North Baja Pipeline, LLC (North Baja), 1400 SW Fifth Avenue, Suite 900, Portland, Oregon 97201, filed in Docket No. CP06-61-002, an amendment, pursuant to section 7 of the Natural Gas Act (NGA), to its application filed on February 7, 2006, as amended on November 21, 2006, to remove the Blythe Energy Interconnect (BEI) Lateral. Specifically, North Baja's amendment addresses only the 40-feet of 8-inch diameter pipeline from the proposed Blythe-Arrowhead Meter Station to the existing Blythe Energy Facility I supply pipeline. North Baja does not propose any changes to the transportation capacity of its proposed expansion, all as more fully set forth in the request which is on file with Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding this application should be directed to Carl M. Fink, Associate General Counsel, North Baja Pipeline, LLC, 1400 SW. Fifth Avenue, Suite 900, Portland, Oregon, 97201 at (503) 833-4256 or Carl_Fink@TransCanada.com.

The facilities associated with the BEI Lateral are described in the draft environmental impact statement (EIS) for the North Baja Pipeline Expansion Project that was issued on September 22, 2006 for public comment. Environmental comments received on this amendment will be combined with those received on the draft EIS and will be addressed in the final EIS prepared for the North Baja Pipeline Expansion Project. The Commission staff will determine if this amendment will have an effect on the schedule for the environmental review of this project. If necessary, a revised Notice of Schedule for Environmental Review will be issued within 90 days of this Notice.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: February 28, 2007.

Magalie R. Salas,
Secretary.

[FR Doc. E7-2483 Filed 2-13-07; 8:45 am]

BILLING CODE 6717-01-P